DEPARTMENT OF THE INTERIOR

Fish and Wildlife Service

Receipt of Applications for Endangered Species Permits

AGENCY: Fish and Wildlife Service, Interior.

ACTION: Notice of receipt of applications for permits.

SUMMARY: The public is invited to comment on the following applications to conduct certain activities with endangered species. We provide this notice pursuant to section 10(c) of the Endangered Species Act of 1973, as amended (16 U.S.C. 1531 et seq.).

DATES: We must receive written data or comments on these applications at the address given below, by October 31, 2003.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist).

FOR FURTHER INFORMATION CONTACT: Victoria Davis, telephone (404) 679-4176; facsimile (404) 679-7081.

SUPPLEMENTARY INFORMATION: The public is invited to comment on the following applications for permits to conduct certain activities with endangered species. If you wish to comment, you may submit comments by any one of several methods. You may mail comments to the Service's Regional Office (see ADDRESSES section) or via electronic mail (e-mail) to “victoria_davis@fws.gov”. Please submit electronic comments as an ASCII file avoiding the use of special characters and any form of encryption. Please also include your name and return address in your e-mail message. If you do not receive a confirmation from the Service that we have received your e-mail message, contact us directly at the telephone number listed above (see FOR FURTHER INFORMATION CONTACT section). Finally, you may hand deliver comments to the Service office listed above (see ADDRESSES section).

Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

TE077175-0

Applicant: Troy L. Best, Auburn University, Auburn, Alabama.

The applicant requests authorization to take (survey, capture, examine, and release) the gray bat (Myotis grisescens) while determining the size of the population and the age and sexual composition of the colony throughout the annual activity period. The activities would take place in Blowing Spring Cave, Lauderdale County, Alabama.

TE077258-0

Applicant: University of Florida, Dr. Frank Mazzotti, Fort Lauderdale Florida

The applicant requests authorization to take (capture, radio tag, examine, tag, measure, and monitor and disturb nest) the American crocodile (Crocodylus acutus) while conducting population surveys and monitoring. The proposed activities would take place throughout the state of Florida.

TE077267-0

Applicant: State of Georgia, Georgia Department of Transportation, William Bouthillier, Atlanta, Georgia

The applicant requests authorization to take (capture, identify, and release) all federally listed freshwater fishes and mollusks, identified in 50 CFR 17.11 in the State of Georgia along with the Eastern indigo snake (Drymarchon corais couperi). The proposed activities would take place throughout the state of Georgia while conducting surveys for transportation projects.

TE077277-0

Applicant: Carlos E. Diez and Robert P. Van Dam, Puerto Rico Department of Natural and Environmental Resources, San Juan, Puerto Rico

The applicant requests authorization to take (capture, collect, relocate, and euthanize) Hawksbill sea turtles (Eretmochelys imbricata), for the purposes of conducting genetic studies on 200 eggs and 420 hatchlings to determine the sex ratios of the hatchlings that are being produced on Mona Island. The proposed study consists of three phases: (1) Determination of the pivotal temperature (the incubation temperature at which both sexes are produced in equal proportion); (2) a methodological validation; and (3) the estimation of the sex ratio in hatchlings incubated on Mona Island's beaches. The proposed activities will take place on Mona Island, Puerto Rico.

Dated: September 19, 2003.
Sam D. Hamilton,
Regional Director.

[FR Doc. 03-24837 Filed 9-30-03; 8:45 am]

BILLING CODE 4310-55-P